DEPARTMENT OF LABOR

Occupational Safety and Health Administration

[Docket No. OSHA-H022k-2006-0062]

Preparations for the 29th Session of the UN Sub-Committee of Experts on the Globally Harmonized System of Classification and Labelling of Chemicals (UNSCEGHS)

AGENCY: Occupational Safety and Health Administration (OSHA), Department of Labor.

ACTION: Notice of public meeting.

SUMMARY: This notice is to advise interested persons that on Wednesday, June 10, 2015, OSHA will conduct a public meeting to discuss proposals in preparation for the 29th session of the United Nations Sub-Committee of Experts on the Globally Harmonized System of Classification and Labelling of Chemicals (UNSCEGHS) to be held June 29 to July 1, 2015 in Geneva, Switzerland. OSHA, along with the U.S. Interagency GHS (Globally Harmonized System of Classification and Labelling of Chemicals) Coordinating Group, plans to consider the comments and information gathered at this public meeting when developing the U.S. Government positions for the UNSCEGHS meeting.

Also, on Wednesday, June 10, 2015, the Department of Transportation (DOT), Pipeline and Hazardous Materials Safety Administration (PHMSA) will conduct a public meeting (See Docket No. PHMSA-2015-0101, Notice No. 15-6) to discuss proposals in preparation for the 47th session of the United Nations Sub-Committee of Experts on the Transport of Dangerous Goods (UNSCOE TDG) to be held June 22 to June 26, 2015, in Geneva, Switzerland. During this meeting, PHMSA is also soliciting comments relative to potential new work items which may be considered for inclusion in its international agenda and feedback on issues that PHMSA may put forward for consideration by the Sub-Committee, such as enhanced recognition of alternative test methods relevant to the classification of corrosive materials (see further discussion under the SUPPLEMENTARY INFORMATION section below). PHMSA will also provide an update on recent actions to enhance transparency and stakeholder interaction through improvements to the international standards portion of its Web site.

DATES: Wednesday, June 10, 2015.

ADDRESSES: Both meetings will be held at the DOT Headquarters Conference Center, West Building, 1200 New Jersey Avenue SE., Washington, DC 20590.

Times and Locations: PHMSA public meeting: 9:00 a.m. to 12:00 p.m. EDT, Conference Room 4. OSHA public meeting: 1:00 p.m. to 4:00 p.m. EDT, Conference Room 4.

Registration: It is requested that attendees pre-register for these meetings by completing the form at: https://www.surveymonkey.com/r/3XTD2TB. Attendees may use the form to pre-register for the OSHA meeting, the PHMSA meeting, or both meetings. Failure to pre-register may delay your access to the DOT building. Participants attending in person are encouraged to arrive early to allow time for security checks necessary to obtain access to the building.

Conference call-in and “live meeting” capability will be provided for both meetings. Specific information on call-in and live meeting access will be posted when available at: http://www.osha.gov/dsg/hazcom/ and at: http://www.phmsa.dot.gov/hazmat/regs/international.

FOR FURTHER INFORMATION CONTACT: Maureen Ruskin, Office of Chemical Hazards-Metals, OSHA Directorate of Standards and Guidance, Department of Labor, Washington, DC 20210: telephone: (202) 693-1950, email: ruskin.maureen@dol.gov.

SUPPLEMENTARY INFORMATION: The OSHA Meeting: OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.-Canada Regulatory Cooperation Council (RCC) at the meeting.

General topics on the agenda include:

• Review of Working papers

• Correspondence Group updates

• Regulatory Cooperation Council (RCC) Update

Information on the work of the UNSCEGHS including meeting agendas, reports, and documents from previous sessions, can be found on the United Nations Economic Commission for Europe (UNECE) Transport Division Web site located at the following web address; http://www.unece.org/trans/main/dgdb/dgsubc4/c4age.html. The UNSCEGHS bases its decisions on Working Papers. The Working Papers for the 29th session of the UNSCEGHS are located at: http://www.unece.org/trans/main/dgdb/dgsubc4/c42015.html.

Informal Papers submitted to the UNSCEGHS provide information for the Sub-committee and are used either as a mechanism to provide information to the Sub-committee or as the basis for future Working Papers. Informal Papers for the 29th session of the UNSCEGHS are not yet posted on the UN Web site but when they become available will be located at: http://www.unece.org/trans/main/dgdb/dgsubc4/c4inf29.html.

The PHMSA Meeting: The Federal Register notice and additional detailed information relating to PHMSA's public meeting will be available upon publication at http://www.regulations.gov (Docket No. PHMSA-2015-0101) and on the PHMSA Web site at: http://www.phmsa.dot.gov/hazmat/regs/international.

The primary purpose of PHMSA's meeting will be to prepare for the 47th session of the UNSCE TDG. The 47th session of the UNSCE TDG is the first of four meetings scheduled for the 2015-2016 biennium. The UNSCE will consider proposals for the 20th Revised Edition of the United Nations Recommendations on the Transport of Dangerous Goods Model Regulations, which may be implemented into relevant domestic, regional, and international regulations from January 1, 2019. Copies of working documents, informal documents, and the meeting agenda may be obtained from the United Nations Transport Division's Web site at http://www.unece.org/trans/danger/danger.html.

General topics on the agenda for the UNSCE TDG meeting include:

• Explosives and related matters

• Listing, classification and packing

• Electric storage systems

• Transport of gases

• Miscellaneous pending issues

• Global harmonization of transport of dangerous goods regulations with the

Model Regulations

• Guiding principles for the Model Regulations

• Electronic data interchange for documentation purposes

• Cooperation with the International Atomic Energy Agency (IAEA)

• New proposals for amendments to the Model Regulations

• Issues relating to the Globally Harmonized System of Classification and Labeling of Chemicals (GHS)

PHMSA specifically solicits comments relative to efforts by the UN TDG and GHS Sub-Committees relevant to enhancing recognition of additional Class 8 (corrosive) classification test methods that are currently included within the GHS but not specifically referenced within the UN Model Regulations for Transport. PHMSA in considering submission of a proposal to include within the UN Model Regulations additional GHS-based methods, such as the additivity method which was discussed by the GHS/TDG Informal Working Group that met during the last biennium. PHMSA sees value in the inclusion of alternative methods which provide an equivalent level of safety provided they are included as an option to provide greater flexibility for example with respect to the classification of mixtures to reduce the need for in-vitro and/or in-vivo testing where practicable.

Following the 47th session of the UNSCE TDG, a copy of the Sub-Committee's report will be available at the United Nations Transport Division's Web site at http://www.unece.org/trans/main/dgdb/dgsubc3/c3rep.html. PHMSA's Web site at http://www.phmsa.dot.gov/hazmat/regs/international provides additional information regarding the UNSCE TDG and related matters.

Authority and Signature: This document was prepared under the direction of David Michaels, Ph.D., MPH, Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on May 15, 2015.
David Michaels,
Assistant Secretary of Labor for Occupational Safety and Health.

[FR Doc. 2015-12268 Filed 5-20-15; 8:45 am]

BILLING CODE 4510-26-P